DEPARTMENT OF JUSTICE

Notice of Lodging of Proposed Settlement Agreement Under the Comprehensive Environmental Response, Compensation and Liability Act (CERCLA)

Notice is hereby given that on March 30, 2009, a proposed Settlement Agreement Regarding Natural Resource Damage Claims for Mineral Creek, the Gila River, and the San Pedro River, Arizona was filed with the United States Bankruptcy Court for the Southern District of Texas in In re Asarco LLC, No. 05-21207 (Bankr. S.D. Tex.). The proposed Agreement entered into by the United States (on behalf of the Department of Interior), the State of Arizona, and Asarco LLC provides, inter alia, for the transfer of three parcels of land with high ecological value to the State of Arizona, the grant of an allowed general unsecured claim to the United States of $226,396, and the grant of a joint indivisible allowed general unsecured claim to the United States and the State of Arizona of $3,773,604 to fund restoration of injured natural resources. The proposed Agreement covers injured natural resources due to releases of hazardous materials from the Ray Mine Facility in Kelvin, Arizona, and the Hayden Smelter Facility in Hayden, Arizona, to the following waters and their riparian zones: the Gila River from the Ashurst-Hayden Diversion Dam, upstream past the confluence of the San Pedro and Gila Rivers, and for a distance of 5 miles up each of those rivers beyond the confluence, and Mineral Creek from its confluence with the Gila River upstream to a point one mile above the Big Box Canyon Dam.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633.

The proposed Agreement may be examined at the Office of the United States Attorney for the Southern District of Texas, 800 North Shoreline Blvd, #500, Corpus Christi, TX 78476-2001. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (without attachments) or $4.50 (with attachments) (25 cents per page reproduction cost) payable to the U.S. Treasury.

Maureen Katz,
Assistant Section Chief, Environmental Enforcement Section, Environment & Natural Resources Division.

[FR Doc. E9-7996 Filed 4-8-09; 8:45 am]

BILLING CODE 4410-15-P